FEDERAL COMMUNICATIONS COMMISSION

Notice of Public Information Collection(s) Being Submitted for Review to the Office of Management and Budget

March 27, 2007.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 4, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via Internet at Jasmeet_K._Seehra@omb.eop.gov and to Judith-B. Herman@fcc.gov, Federal Communications Commission, Room 1-B441, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-1067.

Title: Qualification Questions.

Form No.: FCC Form 312-EZ.

Type of Review: Extension of a currently approved collection.

Respondents: Business or other for-profit.

Number of Respondents: 3,872 respondents; 38,720 responses.

Estimated Time Per Response: 10 hours.

Frequency of Response: On occasion reporting requirement.

Obligation to Respond: Required to obtain or retain benefits.

Total Annual Burden: 38,720 hours.

Total Annual Cost: $9,874,000.

Privacy Act Impact Assessment: N/A.

Nature and Extent of Confidentiality: There is no need for confidentiality.

Needs and Uses: The Commission will submit this information collection to OMB as an extension during this comment period to obtain the full three-year clearance from them. There is no change in the number of respondents, burden hours or annual costs.

The FCC Form 312-EZ, Qualification Questions, is used by applicants for the C-band and Ku-band earth stations (non-common carrier applicants) who are eligible for the “auto-grant” procedure. Under the “auto-grant process” the International Bureau of the FCC automatically grants “routine” earth station applications proposing to use the C-band or Ku-band. To be considered “routine”, earth station must meet a number of requirements, including primarily the following: (1) The earth station antenna must meet certain minimum diameter requirements; (2) the proposed earth station must meet the antenna performance standard and power limitations contained in Part 25 of the Commission's rules; (3) the earth station must be coordinated as required by Part 25; (4) the applicant seeks to communicate only with satellites authorized to provide service in the United States; and (5) the proposed station is otherwise consistent with the Commission's legal requirements.

This information collection is used by Commission staff in carrying out its duties concerning satellite communications as required by Sections 301, 308, 309, and 310 of the Communications Act of 1934, as amended. It is also used by the Commission staff in carrying out its duties under the World Trade Organization (WTO) Basic Telecom Agreement. Without such information, the Commission could not determine whether to permit respondents to provide telecommunications services in the United States.

Federal Communications Commission.
Marlene H. Dortch,
Secretary.

[FR Doc. E7-6154 Filed 4-3-07; 8:45 am]

BILLING CODE 6712-01-P